DEPARTMENT OF ENERGY

Federal Energy Regulatory Commission

[Project No. 2784-004-CA]

Pacific Gas and Electric Company; Notice of Availability of Environmental Assessment

In accordance with the National Environmental Policy Act of 1969 and the Federal Energy Regulatory Commission's (Commission) regulations, 18 CFR part 380 (Order No. 486, 52 FR 47897), the Office of Energy Projects has reviewed the application for a new license for the Rollins Transmission Line Project located within the Bear River basin, on private land in Placer and Nevada counties, California. The transmission line extends 0.72 mile from Nevada Irrigation District's (NID) existing Rollins powerhouse switchyard (part of the Yuba-Bear Hydroelectric Project, FERC Project No. 2266) to the junction with PG&E's Drum-Grass Valley-Weimer transmission line (non-FERC jurisdictional). Commission staff has prepared an Environmental Assessment (EA) that analyzes the potential environmental effects of the transmission line and concludes that issuing a new license for the Rollins Transmission Line Project, with appropriate environmental measures, would not constitute a major federal action significantly affecting the quality of the human environment.

The EA contains staff's analysis of the potential environmental effects of the project and alternatives and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-(866) 208-3676, or for TTY, (202) 502-8659.

You may also register online at http://www.ferc.gov/docs-filing/esubscription.asp to be notified via email of new filings and issuances related to this or other pending project. For assistance, contact FERC Online Support.

Any comments on the EA should be filed within 30 days from the date of this notice. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/eComment.asp. You must include your name and contact information at the end of your comments.

Please contact Mary Greene by telephone at (202) 502-8865 or by email at mary.greene@ferc.gov if you have any questions.

Dated: December 8, 2011.
Kimberly D. Bose,
Secretary.

[FR Doc. 2011-32126 Filed 12-14-11; 8:45 am]

BILLING CODE 6717-01-P